Proclamation 10650 of October 6, 2023

Leif Erikson Day, 2023

By the President of the United States of America

A Proclamation

It is believed that, roughly a millennium ago, Leif Erikson and his crew became the first Europeans to set foot in North America. These Norse explorers boldly charted new paths that would inspire adventurers for centuries to come. With bravery, optimism, and tireless effort, Leif Erikson embodied many of the same traits that future generations of Danes, Finns, Icelanders, Norwegians, and Swedes would weave into the fabric of America's story. This Leif Erikson Day, we join together to honor the heritage of our Nordic communities and celebrate all they have done to strengthen our country.

Throughout our Nation's history, countless Nordic immigrants have come to America—many with little more than the hope in their hearts. Motivated by the promise of possibilities and the search for the American Dream, these families packed up their lives on distant shores to build new homes here. Establishing communities across our Nation, Nordic Americans have contributed so much to our society. Nordic migrants helped lay our country's foundations by fighting for liberty in our Armed Forces; establishing churches, schools, and businesses; and playing essential roles in the labor movement. And as public servants, doctors, engineers, entrepreneurs, community leaders, and so much more, Nordic Americans continue to push our Nation ever forward, enriching every part of American life.

Today, my Administration also reaffirms our strong relations with Nordic nations and their people. Grounded in our shared values of democracy, freedom, and justice, America is working with our Nordic partners to take on our greatest challenges. We are collaborating to address the climate crisis by increasing opportunity and investments in emerging technologies. And we are working together to preserve a free and open Indo-Pacific and to provide security and humanitarian assistance to the people of Ukraine as they defend themselves against Russia's brutal invasion. In service of these missions, last year, the United States supported the ratification process for Finland to join NATO—culminating in the fastest ratification period in modern history. We continue to fully support Sweden's membership in our alliance. Our nations are stronger together, and we will continue working with these capable and committed partners.

This Leif Erikson Day, we celebrate the tremendous contributions of Nordic Americans to our Nation. Most of all, we rededicate ourselves to the American spirit of adventure embodied in Leif Erikson's journey roughly a millennium ago. Let us continue to pursue bravely principles of liberty, equality, and justice so all people in our country can achieve the American Dream.

To honor Leif Erikson, son of Iceland and grandson of Norway, and to celebrate Nordic-American heritage, the Congress, by joint resolution (Public Law 88-566) approved on September 2, 1964, has authorized the President of the United States to proclaim October 9th of each year as “Leif Erikson Day.”

NOW, THEREFORE, I, JOSEPH R. BIDEN JR., President of the United States of America, do hereby proclaim October 9, 2023, as Leif Erikson Day. I call upon all Americans to celebrate the contributions of Nordic Americans to our Nation with appropriate ceremonies, activities, and programs.

IN WITNESS WHEREOF, I have hereunto set my hand this sixth day of October, in the year of our Lord two thousand twenty-three, and of the Independence of the United States of America the two hundred and forty-eighth.

[FR Doc. 2023-22668

Filed 10-11-23; 8:45 am]

Billing code 3395-F4-P